DEPARTMENT OF THE INTERIOR

National Park Service

[NPS-WASO-TPS-9445; 2200-686]

Notice of Intent To Modify Schedule of Fees for Reviewing Historic Preservation Certification Applications; Correction

AGENCY: National Park Service, Interior.

ACTION: Notice; Correction.

SUMMARY: This notice corrects the address and fax number that the public should use in making comments on the changes to the fees the National Park Service (NPS) charges for reviewing Historic Preservation Certification Applications, and extends the period for making comments.

DATES: Written comments will be accepted until August 6, 2012.

ADDRESSES: You may submit comments by any of the following methods: email: michael_auer@nps.gov; fax: 202-371-1961, Attention: Michael Auer Mail: Michael Auer, Technical Preservation Services, National Park Service, 1201 “Eye” St. NW., Org Code 2255, Washington, DC 20005.

SUPPLEMENTARY INFORMATION: The notice published in Vol. 77, No. 121, Friday, June 22, 2012, page 37708, column 2, had incorrect information in the ADDRESSES section. This notice provides a corrected address for sending comments by mail and a corrected fax number. It also extends the period for making comments.

Dated: June 27, 2012.
Jonathan B. Jarvis,
Director, National Park Service.

[FR Doc. 2012-16278 Filed 7-5-12; 8:45 am]

BILLING CODE 4312-52-P